DEPARTMENT OF ENERGY

Federal Energy Regulatory Commission

Privacy Act of 1974; System of Records

AGENCY: Federal Energy Regulatory Commission (FERC), Department of Energy (DOE).

ACTION: Notice of a modified system of records.

SUMMARY: In accordance with the Privacy Act of 1974, all agencies are required to publish in the Federal Register a notice of their systems of records. Notice is hereby given that the Federal Energy Regulatory Commission (FERC) is publishing a notice of modifications to an existing FERC system of records titled “Federal Personnel and Payroll Records (FERC-57)” previously titled “Federal Personnel and Payroll System (FPPS).”

DATES: Comments on this modified system of records must be received no later than 30 days after date of publication in the Federal Register. If no public comment is received during the period allowed for comment or unless otherwise published in the Federal Register by FERC, the modified system of records will become effective a minimum of 30 days after date of publication in the Federal Register. If FERC receives public comments, FERC shall review the comments to determine whether any changes to the notice are necessary.

ADDRESSES: Comments should be submitted in writing to Federal Energy Regulatory Commission, 888 First Street NE, Washington, DC 20426 or electronically to privacy@ferc.gov. Comments should indicate that they are submitted in response to “Federal Personnel and Payroll Records (FERC-57)”.

FOR FURTHER INFORMATION CONTACT: Mittal Desai, Chief Information Officer & Senior Agency Official for Privacy, Office of the Executive Director, Federal Energy Regulatory Commission, 888 First Street NE, Washington, DC 20426, privacy@ferc.gov, (202) 502-6832.

SUPPLEMENTARY INFORMATION: In accordance with the Privacy Act of 1974, and to comply with the Office of Management and Budget (OMB) Memorandum M-17-12, “Preparing for and Responding to a Breach of Personally Identifiable Information,” January 3, 2017, this notice has twelve (12) new routine uses (routine uses 1-12), including two routine uses that will permit FERC to disclose information as necessary in response to an actual or suspected breach that pertains to a breach of its own records or to assist another agency in its efforts to respond to a breach that was previously published separately at 87 FR 35543 (June 10, 2022).

The following sections have been updated to reflect changes made since the publication of the last notice in the Federal Register: dates; addresses; for further contact information; system name and number; system location; purpose of the system; categories of individuals covered by the system; categories of records in the system; record source categories; routine uses of records maintained in the system, including categories of users and the purpose of such; policies and practices for storage of records; policies and practices for retrieval of records; policies and practices for retention and disposal of records; administrative, technical, physical safeguards; records access procedures; contesting records procedures; notification procedures; and history.

SYSTEM NAME AND NUMBER:

Federal Personnel and Payroll Records (FERC-57).

SECURITY CLASSIFCATION:

Unclassified.

SYSTEM LOCATION:

Interior Business Center, U.S. Department of the Interior, One Denver Federal Center, Bldg. 48, Denver, CO 80225.

Human Resources Division, Office of the Executive Director, Federal Energy Regulatory Commission, 888 First Street NE, Washington, DC 20426.

SYSTEM MANAGER(S):

Director, Human Resources Division, Office of the Executive Director, Federal Energy Regulatory Commission, 888 First Street NE, Washington, DC 20426, (202) 502-6852.

AUTHORITY FOR MAINTENANCE OF THE SYSTEM:

5 U.S.C. 2951, 5 U.S.C. 5101 et seq.

PURPOSE(S) OF THE SYSTEM:

The main purpose of the system is to provide personnel and payroll support and workforce management including: salary and benefits payment; and time, attendance, leave, other absences tracking and reporting. The system is used to create and generate the full life cycle of personnel transactions including, but not limited to, personnel actions, vacancy announcements, candidate processing and interviews, new hire tracking, specialized pay, garnishments, and appointment programs.

CATEGORIES OF INDIVIDUALS COVERED BY THE SYSTEM:

The following categories of individuals are covered by the system: current and former employees and their beneficiaries; and candidates for employment.

CATEGORIES OF RECORDS IN THE SYSTEM:

The categories of records in the system are: name; citizenship; gender; date of birth; marital status; other names; social security number (SSN); legal status; place of birth; security clearance; financial information; disability information; education information; race/ethnicity; driver's license; personal cellphone number; personal email address; home telephone number; child or dependent information; employment information; military status/service; mailing/home address; taxpayer identification number (TIN); bank account information such as routing and account numbers; beneficiary information such as name, date of birth, address, telephone number, SSN, and relationship; family member and dependents information; professional licensing and credentials; family relationships; age; involuntary debt (garnishments or child support payments); court order information; back pay information; user ID; time and attendance data; leave time information; Employee Common Identifier (ECI); pay rate; grade; length of service; and deductions.

RECORD SOURCE CATEGORIES:

Records are obtained from FERC employees, supervisors, timekeepers, previous employers, the Internal Revenue Service and State tax agencies, the Department of the Treasury, other Federal agencies, courts, State child support agencies, employing agency accounting offices, and third-party benefit providers.

ROUTINE USES OF RECORDS MAINTAINED IN THE SYSTEM, INCLUDING CATEGORIES OF USERS AND THE PURPOSES OF SUCH USES:

In addition to those disclosures generally permitted under 5 U.S.C. 552a(b) of the Privacy Act, information maintained in this system may be disclosed to authorized entities outside FERC for purposes determined to be relevant and necessary as a routine use pursuant to 5 U.S.C. 552a(b)(3) as follows:

1. To appropriate agencies, entities, and persons when (1) FERC suspects or has confirmed that there has been a breach of the system of records; (2) FERC has determined that as a result of the suspected or confirmed breach there is a risk of harm to individuals, the Commission (including its information systems, programs, and operations), the Federal Government, or national security; and (3) the disclosure made to such agencies, entities, and persons is reasonably necessary to assist in connection with the Commission's efforts to respond to the suspected or confirmed breach or to prevent, minimize, or remedy such harm.

2. To another Federal agency or Federal entity, when FERC determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

3. To a congressional office from the record of an individual in response to an inquiry from that congressional office made at the request of that individual.

4. To the Equal Employment Opportunity Commission (EEOC) when requested in connection with investigations of alleged or possible discriminatory practices, examination of Federal affirmative employment programs, or other functions of the Commission as authorized by law or regulation.

5. To the Federal Labor Relations Authority or its General Counsel when requested in connection with investigations of allegations of unfair labor practices or matters before the Federal Service Impasses Panel.

6. To disclose information to another Federal agency, to a court, or a party in litigation before a court or in an administrative proceeding being conducted by a Federal agency, when the Government is a party to the judicial or administrative proceeding. In those cases where the Government is not a party to the proceeding, records may be disclosed if a subpoena has been signed by a judge.

7. To the Department of Justice (DOJ) for its use in providing legal advice to FERC or in representing FERC in a proceeding before a court, adjudicative body, or other administrative body, where the use of such information by the DOJ is deemed by FERC to be relevant and necessary to the advice or proceeding, and such proceeding names as a party in interest: (a) FERC; (b) any employee of FERC in his or her official capacity; (c) any employee of FERC in his or her individual capacity where DOJ has agreed to represent the employee; or (d) the United States, where FERC determines that litigation is likely to affect FERC or any of its components.

8. To non-Federal Personnel, such as contractors, agents, or other authorized individuals performing work on a contract, service, cooperative agreement, job, or other activity on behalf of FERC or Federal Government and who have a need to access the information in the performance of their duties or activities.

9. To the National Archives and Records Administration in records management inspections and its role as Archivist.

10. To the Merit Systems Protection Board or the Board's Office of the Special Counsel, when relevant information is requested in connection with appeals, special studies of the civil service and other merit systems, review of OPM rules and regulations, and investigations of alleged or possible prohibited personnel practices.

11. To appropriate Federal, State, or local agency responsible for investigating, prosecuting, enforcing, or implementing a statute, rule, regulation, or order, if the information may be relevant to a potential violation of civil or criminal law, rule, regulation, order.

12. To appropriate agencies, entities, and person(s) that are a party to a dispute, when FERC determines that information from this system of records is reasonably necessary for the recipient to assist with the resolution of the dispute; the name, address, telephone number, email address, and affiliation; of the agency, entity, and/or person(s) seeking and/or participating in dispute resolution services, where appropriate.

13. To consumer reporting agencies as defined in the Fair Credit Reporting Act (15 U.S.C. 1681a(f)) or the Federal Claims Act of 1966 (31 U.S.C. 3701(a)(3)).

14. To the Commission's parent agency, the Department of Energy (DOE) for reporting purposes; as well as individuals, entities, and agencies identified in:

(a) Payroll, Attendance, Retirement, and Leave Records—Interior, DOI-85.

(b) Interior Personnel Records—Interior, DOI-79.

(c) General Personnel Records—OPM, OPM/GOVT-1.

POLICIES AND PRACTICES FOR THE STORAGE OF RECORDS:

Records are stored in paper and electronic form. All FERC employees and contractors with authorized access have undergone a thorough background security investigation. Paper records are stored in a lockable file cabinet. Data access is restricted to agency personnel or contractors whose responsibilities require access. Access to electronic records is controlled by the organization's Single Sign-On and Multi-Factor Authentication Solution. Role based access is used to restrict electronic data access and the organization employs the principle of least privilege, allowing only authorized users with access (or processes acting on behalf of users) necessary to accomplish assigned tasks in accordance with organizational missions and business functions.

POLICIES AND PRACTICES FOR RETRIEVAL OF RECORDS:

Records may be retrieved by employee identification such as name, SSN, and ECI.

POLICIES AND PRACTICES FOR RETENTION AND DISPOSAL OF RECORDS:

Records are retained in accordance with the applicable National Archives and Records Administration Schedules, with the following applicable General Records Schedules:

(1.) General Records Schedule (GRS) 2.2: Employee Management Records, Item 030, DAA-GRS-2017-0007-0003. Temporary. Destroy when 2 years old or 2 years after award is approved or disapproved, whichever is later, but longer retention is authorized if required for business use.

(2.) General Records Schedule (GRS) 2.2: Employee Management Records, Item 040, DAA-GRS-2017-0007-0004. Temporary. Destroy when survivor or retirement claims are adjudicated or when records are 129 years old, whichever is sooner, but longer retention is authorized if required for business use.

(3.) General Records Schedule (GRS) 2.2: Employee Management Records, Item 041, DAA-GRS-2017-0007-0005. Temporary. Destroy when superseded or obsolete, or upon separation or transfer of employee, whichever is earlier.

(4.) General Records Schedule (GRS) 2.4: Employee Compensation and Benefits Records, Item 050, DAA-GRS-2018-0002-0005. Temporary. Destroy 7 years after case is closed or final settlement on appeal, as appropriate, but longer retention is authorized if required for business use.

ADMINISTRATIVE, TECHNICAL, AND PHYSICAL SAFEGUARDS:

Authorized users complete the Rules of Behavior for HR Access, which provides guidance on the user's roles and responsibilities. Security controls used to protect personal sensitive data are commensurate with those required for an information system rated moderate for confidentiality, integrity, and availability, as prescribed in NIST Special Publication, 800-53, “Recommended Security Controls for Federal Information Systems,” Revision 5. FERC personnel are required to complete annual agency Information Security and Privacy training. FERC personnel are instructed to lock their computers when they leave their desks. Electronic records are restricted to authorized users with appropriate security privileges, including the use of 2-factor PIV Card authentication. Web-based connections are VPN encrypted sessions between FERC and DOI. Access to electronic records is controlled by the organization's Single Sign-On and Multi-Factor Authentication Solution. The database is maintained behind a firewall. These records are maintained in controlled access areas. Identification cards are verified to ensure that only authorized personnel can access the records.

RECORD ACCESS PROCEDURES:

Individuals requesting access to the contents of records must submit a request through the Freedom of Information Act (FOIA) office. The FOIA website is located at: https://www.ferc.gov/foia. Requests may be submitted through the following portal: https://www.ferc.gov/enforcement-legal/foia/electronic-foia-privacy-act-request-form. Written requests for access to records should be directed to: Director, Office of External Affair, Federal Energy Regulatory Commission, 888 First Street NE, Washington, DC 20426.

CONTESTING RECORD PROCEDURES:

See Records Access procedures.

NOTIFICATION PROCEDURES:

Generalized notice is provided by the publication of this notice. For specific notice, see Records Access Procedure, above.

EXEMPTIONS PROMULGATED FOR THE SYSTEM:

None.

HISTORY:

74 FR 57308 (November 5, 2009).

Dated: November 22, 2024.
Debbie-Anne A. Reese,
Secretary.

[FR Doc. 2024-28091 Filed 11-29-24; 8:45 am]

BILLING CODE 6717-01-P